DEPARTMENT OF TRANSPORTATION

Federal Aviation Administration

14 CFR Part 39

[Docket No. FAA-2024-2413; Project Identifier MCAI-2023-00982-A]

RIN 2120-AA64

Airworthiness Directives; DAHER AEROSPACE (Type Certificate Previously Held by SOCATA) Airplanes

AGENCY: Federal Aviation Administration (FAA), DOT.

ACTION: Notice of proposed rulemaking (NPRM).

SUMMARY: The FAA proposes to adopt a new airworthiness directive (AD) for certain DAHER AEROSPACE (DAHER) Model TBM 700 airplanes. This proposed AD was prompted by certain existing emergency procedures in the pilot's operating handbook (POH) that cannot be fully accomplished since certain equipment cannot be disconnected by the pilot(s) from the flight deck. This proposed AD would require revising the POH for your airplane to provide the flight crew with corrected emergency procedures. The FAA is proposing this AD to address the unsafe condition on these products.

DATES: The FAA must receive comments on this NPRM by December 9, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2413; or in person at Docket Operations between 9 a.m. and 5 p.m., Monday through Friday, except Federal holidays. The AD docket contains this NPRM, the mandatory continuing airworthiness information (MCAI), any comments received, and other information. The street address for Docket Operations is listed above.

Material Incorporated by Reference:

• For DAHER material identified in this proposed AD, contact DAHER AEROSPACE Customer Support, Airplane Business Unit, Tarbes—Cedex 9, France 65921; phone: (833) 826-2273; email: tbmcare@daher.com; website: daher.com.

• You may view this material at the FAA, Airworthiness Products Section, Operational Safety Branch, 901 Locust, Kansas City, MO 64106. For information on the availability of this material at the FAA, call (816) 329-4148.

FOR FURTHER INFORMATION CONTACT: Fred Guerin, Aviation Safety Engineer, FAA, 1600 Stewart Avenue, Suite 410, Westbury, NY 11590; phone: (206) 231-2346; email: fred.guerin@faa.gov.

SUPPLEMENTARY INFORMATION:

Comments Invited

The FAA invites you to send any written relevant data, views, or arguments about this proposal. Send your comments to an address listed under ADDRESSES. Include “Docket No. FAA-2024-2413; Project Identifier MCAI-2023-00982-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Fred Guerin, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2023-0164, dated August 18, 2023 (also referred to as the MCAI), to correct an unsafe condition on certain serial-numbered DAHER Model TBM 700 airplanes. The MCAI states that the emergency procedures “Cabin Electrical Fire or Smoke During flight” and “Smoke elimination” cannot be fully accomplished since certain equipment cannot be disconnected by the pilot(s) from the flight deck. The MCAI requires incorporating a temporary revision (TR) into the emergency procedures section of the applicable POH, informing all flight crews, and operating the airplane accordingly. This condition, if not corrected, could lead to increased flight crew workload during critical phases of flight, resulting in reduced control of the airplane.

To address the unsafe condition, DAHER published Temporary Revision 30, dated July 2023 (DAHER TR 30), to Section 3, Emergency Procedures, which removes the procedures “Cabin Electrical Fire or Smoke During Flight” and “Smoke elimination” of the DAHER Model TBM 960 Pilot's Operating Handbook, Edition 0, dated January 27, 2022, and replaces them with the new emergency procedure “Fire or Smoke in Flight”.

The FAA is proposing this AD to address the unsafe condition on these products.

You may examine the MCAI in the AD docket at regulations.gov under Docket No. FAA-2024-2413.

Related Material Under 1 CFR Part 51

The FAA reviewed DAHER TR 30 to Section 3 of the Emergency Procedures section of the POH by removing the procedures “Cabin Electrical Fire or Smoke During Flight” and “Smoke elimination” and replacing them with the new emergency procedure “Fire or Smoke in Flight.”

This material is reasonably available because the interested parties have access to it through their normal course of business or by the means identified in the ADDRESSES section.

Clarification of Relationship Between DAHER TR 30 and the Proposed AD Applicability

Although the applicability of this proposed AD is certain serial-numbered DAHER Model TBM 700 airplanes, the TR that needs to be inserted into the applicable POH for the owner/operator's airplane is Temporary Revision 30, dated July 2023, to DAHER Pilot's Operating Handbook TBM 960, Edition 0, dated January 27, 2022. The FAA type certificate data sheet (TCDS) specifies Model TBM 700 airplanes, but the notes in the FAA TCDS indicate that, depending on the airplane's serial number and any optional modification installed, an affected Model TBM 700 airplane could have a trade name that includes a “900” designation, including TBM 900, TBM 910, TBM 930, TBM 940, or TBM 960.

FAA's Determination

These products have been approved by the aviation authority of another country and are approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require revising the existing POH for your airplane to provide the flight crew with emergency procedures to follow under certain conditions, except as discussed under “Differences Between this Proposed AD and the MCAI.” The owner/operator (pilot) holding at least a private pilot certificate may revise the existing POH for your airplane and must enter compliance with the applicable paragraph of this proposed AD into the airplane maintenance records in accordance with 14 CFR 43.9(a) and 91.417(a)(2)(v). The pilot may perform this action because it only involves revising the POH. This action could be performed equally well by a pilot or a mechanic. This is an exception to the FAA's standard maintenance regulations.

Differences Between This Proposed AD and the MCAI

EASA AD 2023-0164 includes requirements to “inform all flight crews and, thereafter, operating the airplane accordingly” and this proposed AD would not specifically require those actions because those actions are already required by FAA regulations.

Costs of Compliance

The FAA estimates that this AD, if adopted as proposed, would affect 930 airplanes of U.S. registry.

The FAA estimates the following costs to comply with this proposed AD:

Estimated Costs
Action | Labor cost | Parts cost | Cost per product | Cost on U.S. operators
Revise POH | 1 work-hour × $85 per hour = $85 | $0 | $85 | $79,050

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

DAHER AEROSPACE (Type Certificate Previously Held by SOCATA): Docket No. FAA-2024-2413; Project Identifier MCAI-2023-00982-A.

(a) Comments Due Date

The FAA must receive comments on this airworthiness directive (AD) by December 9, 2024.

(b) Affected ADs

None.

(c) Applicability

This AD applies to DAHER AEROSPACE (type certificate previously held by SOCATA) Model TBM 700 airplanes, manufacturer serial numbers 687 through 1491 inclusive, certificated in any category.

(d) Subject

Joint Aircraft System Component (JASC) Code 2600, Fire Protection System.

(e) Unsafe Condition

This AD was prompted by certain emergency procedures in the existing pilot's operating handbook (POH) that cannot be fully accomplished since certain equipment cannot be disconnected by the pilot(s) from the flight deck. The FAA is issuing this AD to address the unsafe condition. The unsafe condition, if not addressed, could lead to increased flight crew workload during critical phases of flight, resulting in reduced control of the airplane.

(f) Compliance

Comply with this AD within the compliance times specified, unless already done.

(g) Required Actions

Within 30 days after the effective date of this AD, revise the existing POH for your airplane by incorporating Temporary Revision 30, dated July 2023, to Section 3, Emergency Procedures, of the DAHER Pilot's Operating Handbook, TBM 960, Edition 0, dated January 27, 2022. The owner/operator (pilot) holding at least a private pilot certificate may revise the existing POH for your airplane and must enter compliance with the applicable paragraph of this AD into the airplane maintenance records in accordance with 14 CFR 43.9(a) and 91.417(a)(2)(v). The record must be maintained as required by 14 CFR 91.417, 121.380, or 135.439.

(h) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (i) of this AD or email to: AMOC@faa.gov. If mailing information, also submit information by email. Before using any approved AMOC, notify your appropriate principal inspector, or lacking a principal inspector, the manager of the local Flight Standards District Office/certificate holding district office.

(i) Additional Information

For more information about this AD, contact Fred Guerin, Aviation Safety Engineer, FAA, 1600 Stewart Avenue, Suite 410, Westbury, NY 11590; phone: (206) 231-2346; email: fred.guerin@faa.gov.

(j) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Temporary Revision 30, dated July 2023, to the DAHER Pilot's Operating Handbook, TBM 960, Edition 0, January 27, 2022.

(ii) [Reserved]

(3) For DAHER material identified in this AD, contact DAHER AEROSPACE Customer Support, Airplane Business Unit, Tarbes—Cedex 9, France 65921; phone: (833) 826-2273; email: tbmcare@daher.com; website: daher.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on October 15, 2024.
Victor Wicklund,
Deputy Director, Compliance & Airworthiness Division, Aircraft Certification Service.

[FR Doc. 2024-24331 Filed 10-23-24; 8:45 am]

BILLING CODE 4910-13-P